DEPARTMENT OF THE INTERIOR

National Park Service

[NPS-WASO-NRNHL-11653; 2200-3200-665]

National Register of Historic Places; Notification of Pending Nominations and Related Actions

Nominations for the following properties being considered for listing or related actions in the National Register were received by the National Park Service before October 27, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by December 12, 2012. Before including your address, phone number, email address, or other personal identifying information in your comment, you should be aware that your entire comment—including your personal identifying information—may be made publicly available at any time. While you can ask us in your comment to withhold your personal identifying information from public review, we cannot guarantee that we will be able to do so.

Dated: November 2, 2012.
Alexandra M. Lord,
Acting Chief, National Register of Historic Places/National Historic Landmarks Program.

ALABAMA

Fayette County

Fayette County Courthouse Historic District (Boundary Increase), Temple Ave. N. & S., 1st Ave. E. & W., 2nd St. S., 1st St. N., Fayette, 12001020

Marengo County

Demopolis Historic District (Boundary Increase), E. Gaines, N. Ash, W. Pettus, & S. Stewart Sts., Demopolis, 12001021

Marshall County

Downtown Guntersville Historic District, Gunter & Blount Aves., Ringold & Scott Sts., Guntersville, 12001022

MARYLAND

Prince George's County

College Heights Estates Historic District, (Historic Residential Suburbs in the United States, 1830-1960 MPS) Roughly bounded by Adelphi Rd., U. of Maryland College Park, University Park, Van Buren St., Wells Pkwy., University Park, 12001023

Early Family Historic District, 13900-13902-13904 & 13907 Cherry Tree Crossing & 14134 Brandywine Rds., Brandywine, 12001024

University Park Historic District (Boundary Increase), Roughly bounded by Adelphi, Queens Chapel & Toledo Rds., Wells Pkwy., Van Buren & Underwood Sts., University Park, 12001025

Upper Marlboro Residential Historic District, Bounded by 14204 Old Marlboro Pike, 14519 Elm & 14508 Main Sts., Western Branch & 5600 Old Crain Hwy., Upper Marlboro, 12001026

MICHIGAN

Bay County

Center Avenue Neighborhood Historic District (Boundary Increase), Roughly bounded by N. Madison, Green & Center Aves., 4th, 5th, 6th & 10th Sts., Carroll Rd. & Nurmi Dr., Bay City, 12001027

Dickinson County

Upper Twin Falls Bridge, Upper Twin Falls Rd. over the Menominee R. (Breitung Township), Iron Mountain, 12001028

Ingham County

Williamston Downtown Historic District, 1st blks. of E. & W. Grand River Ave. & S. Putnam St., Williamston, 12001029

Jackson County

Hanover High School Complex, 105 Fairview St., Hanover, 12001030

Kalamazoo County

Drake, Benjamin and Maria (Ogden), Farm, 927 N. Drake Rd. (Oshtemo Charter Township), Kalamazoo, 12001031

Kent County

Grand Rapids Storage and Van Company Building, 1415 Lake Dr. SE., Grand Rapids, 12001032

NEW JERSEY

Monmouth County

Portland Place, 220 Hartshorne Rd. (Middletown Township), Highland, 12001033

Morris County

First Reformed Church of Pompton Plains, 529 Newark-Pompton Tpk. (Pequannock Township), Pompton Plains, 12001034

NEW YORK

Cattaraugus County

Randolph Historic District, Jct. of Main & Jamestown to Borden Sts., Randolph, 12001035

New York County

Riverside Church, 478, 490 Riverside Dr. & 81 Claremont Ave., New York, 12001036

Suffolk County

Cold Spring Harbor Beach Club, 101 Shore Rd., New York, 12001037

OKLAHOMA

Kay County

Aupperle, Bennie L., Dairy Barn, 8700 N. LA Cann Rd., Newkirk, 12001038

Payne County

Gillespie Drilling Company Building, 317 W. Broadway, Cushing, 12001039

Texas County

Baker, Elmer, Barn, Mile 47 Rd., Hooker, 12001040

Tulsa County

Tulsa Race Riot of 1921 Historic District, Roughly N. Cincinnati, E. King, N. & S. Greenwood, Archer, Boston, Boulder, Brady, Main, 1st, 2nd, 4th & 6th Sts., Tulsa, 12001041

PENNSYLVANIA

Chester County

St. Paul African Methodist Episcopal Church, 703 Merchant St., Coatesville, 12001042

Philadelphia County

Drueding Brothers Company Building, 437-441 W. Master St., Philadelphia, 12001043

Penn Towers, 1815 John F. Kennedy Blvd., Philadelphia, 12001045

Quaker City Dye Works, (Textile Industry in the Kensington Neighborhood of Philadelphia, Pennsylvania MPS) 100-118 W. Oxford St., Philadelphia, 12001044

Yorktown Historic District, Roughly bounded by Cecil B. Moore Ave., N. 10th, W. Oxford, N. 11th, W. Stiles, W. Flora & N. 13th St., Philadelphia, 12001046

WEST VIRGINIA

Greenbrier County

Edgefield, 461 Brownstone Rd., Renick, 12001047

Hampshire County

Capon Chapel, Christian Church Rd., Capon Bridge, 12001048

Old Pine Church, Old Pine Church Rd., Purgitsville, 12001049

Valley View, Depot Valley Rd., Romney, 12001050

Marshall County

Spencer Cemetery, 668 Burley Hill Rd., Cameron, 12001051

Pocahontas County

Pleasant Green Methodist Episcopal Church, Seebert Rd., Seebert, 12001052

Seebert Lane Colored School, Seebert Rd., Seebert, 12001053

WYOMING

Fremont County

Carpenter Hotel Historic District, 290 Atlantic City Rd., Atlantic City, 12001054

[FR Doc. 2012-28690 Filed 11-26-12; 8:45 am]

BILLING CODE 4312-51-P